DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) The accuracy of the agency's estimate of the burden of the proposed collection of information; (c) Ways to enhance the quality, utility, and clarity of the information to be collected; and (d) Ways to minimize the burden of the collection of information on respondents, including through the use of automated collection techniques or other forms of information technology.

Proposed Project: National Practitioner Data Bank and Healthcare Integrity and Protection Data Bank Market Surveys and Survey of Use of Data Bank Information by Queriers: New

The Health Resources and Services Administration plans to conduct an evaluation of the National Practitioner Data Bank (NPDB) and the Healthcare Integrity and Protection Data Bank (HIPDB). The purpose of these surveys is to conduct a follow-up study to the NPDB User and Non-User Surveys of 2001. In addition, HIPDB users and non-users will be included in this study. The study will evaluate the effectiveness of the NPDB and the HIPDB as flagging systems, sources of information, and decision making tools. It will also determine user satisfaction with the process, use, and information provided by the NPDB and HIPDB.

Surveys will be administered to entities that report to and/or query the NPDB and HIPDB, including users who query either the NPDB and/or HIPDB and who receive a “match”, i.e. copies of adverse actions concerning a queried practitioner. A sample of Queriers who received a matched response will be surveyed about the information received. NPDB and HIPDB non-users will also be surveyed. Eligible NPDB and HIPDB users will be asked to complete a Web-based Internet survey or a computer-assisted telephone interview (CATI). NPDB and HIPDB non-users will complete either a Web or CATI, or will be transferred to an interactive voice response (IVR) system during the CATI to complete the survey.

Data gathered from the survey will be compared with similar information from previous surveys of users and non-users and will provide HRSA with the information necessary to improve the usability of the NPDB and HIPDB.

Estimated Burden on Respondents
Respondents | Respondent description | Number of respondents | Responses per respondent | Total responses | Hours per response | Total burden (hours)
NPDB Users Group Survey | Malpractice Payers | 228 | 1 | 228 | .25 | 57
| Licensing Boards | 90 | 1 | 90 | .25 | 22.5
| Hospitals (Reporting) | 466 | 1 | 466 | .25 | 116.5
| Hospitals (Querying) | 994 | 1 | 994 | .25 | 248.5
| MCOs | 90 | 1 | 900 | .25 | 225
| Other HCEs (Reporting) | 57 | 1 | 57 | .25 | 14.25
| Other HCEs (Querying) | 976 | 1 | 976 | .25 | 244
HIPDB Users Group Survey | Licensing Boards | 231 | 1 | 231 | .25 | 57.75
| Government Hospitals | 390 | 1 | 390 | .25 | 97.5
| MCOs | 580 | 1 | 580 | .25 | 145
| Other HCEs | 260 | 1 | 260 | .25 | 65
NPDB Matched Response Surve | Licensing Boards | 55 | 3 | 165 | .1 | 16.5
| Hospitals | 984 | 3 | 2952 | .1 | 295.2
| MCOs | 848 | 3 | 2544 | .1 | 254.4
| Other HCE's | 904 | 3 | 2712 | .1 | 271.2
HIPDB Matched Response Survey | Licensing Boards | 4 | 3 | 129 | .1 | 12.9
| Hospitals | 202 | 3 | 606 | .1 | 60.6
| MCOs | 432 | 3 | 1296 | .1 | 129.6
| Other HCEs | 87 | 3 | 261 | .1 | 26.1
NPDB Non-User Survey | Licensing Boards | 213 | 1 | 213 | .16 | 34.1
| MCOs | 341 | 1 | 341 | .16 | 54.6
| Other HCEs | 881 | 1 | 881 | .16 | 141
HIPDB Non-User Survey | Licensing Boards | 30 | 1 | 30 | .16 | 4.8
| MCOs | 411 | 1 | 411 | .16 | 76.3
| Other HCEs | 974 | 1 | 974 | .16 | 155.8
Total |  | 11,577 |  | 18,687 |  | 2826.1

Send comments to Susan G. Queen, Ph.D., HRSA Reports Clearance Officer, Room 10-33, Parklawn Building, 5600 Fishers Lane, Rockville, MD 20857. Written comments should be received within 60 days of this notice.

Dated: February 12, 2007.
Caroline Lewis,
Acting Associate Administrator for Administration and Financial Management.

[FR Doc. E7-2856 Filed 2-20-07; 8:45 am]

BILLING CODE 4165-15-P